DEPARTMENT OF TRANSPORTATION

Surface Transportation Board

Proposed Agency Information Collection Activities: Comment Request

AGENCY: Surface Transportation Board, Transportation.

ACTION: 60-day notice and request for comments.

SUMMARY: The Surface Transportation Board (Board), as part of its continuing effort to reduce paperwork burdens, and as required by the Paperwork Reduction Act of 1995, 44 U.S.C. 3501 et seq. (PRA), gives notice that the Board proposes to request reinstatement without change of a previously approved information collection that has expired. Comments are requested concerning (1) Whether the particular collection of information described below is necessary for the proper performance of the functions of the Board, including whether the collection has practical utility; (2) the accuracy of the Board's burden estimates; (3) ways to enhance the quality, utility, and clarity of the information collected; and (4) ways to minimize the burden of the collection of information on the respondents, including the use of automated collection techniques or other forms of information technology, when appropriate. Submitted comments will be summarized and included in the Board's request for Office of Management and Budget (OMB) approval. In this notice the Board is requesting comments on the following information collection:

Title: Application to Open an Account for Billing Purposes.

OMB Control Number: 2104-0006.

Form Number: STB Form 1032.

Number of Respondents: 20.

Affected Public: Mail carriers, shippers, and others doing business before the agency.

Estimated Time Per Response: Less than .08 hours. This estimate is based on actual past survey information.

Frequency of Response: The form will only have to be completed once by each account holder.

Total Annual Burden Hours: Less than 1.6 hours.

Total Annual “Non-Hour Burden” Cost: No “non-hour cost” burdens associated with this collection have been identified.

Needs and Uses: The Board is, by statute, responsible for the economic regulation of surface transportation carriers operating in interstate commerce. This form is for use by applicants who wish to open an account with the Board to charge fees for records search, review, copying, certification of records, filing fees, and related services rendered. The account holder would be billed on a monthly basis for payment of accumulated fees. Data provided will also be used for debt collection activities. The form requests information as required by OMB and U.S. Department of Treasury regulations for the collection of fees. This information is not duplicated by any other agency. In accordance with the Privacy Act, 5 U.S.C. 552a, all taxpayer identification and social security numbers will be secured and used only for credit management and debt collection activities.

DATES: Written comments are due on July 18, 2005.

ADDRESSES: Written comments should be identified as “Paperwork Reduction Act Comments, Application to Open an Account for Billing Purposes, OMB Number 2140-0006” and be directed to: Surface Transportation Board, 1925 K Street, NW., Washington, DC 20423-0001. Comments may also be filed on the Board's Web site at http://www.stb.dot.gov by clicking on E-FILING, and then “Other Submissions.”

FOR FURTHER INFORMATION CONTACT: For further information regarding the information collection, or for copies of the information collection form, contact Anthony Jacobik, Jr., (202) 565-1713. [Federal Information Relay Service (FIRS) for the hearing impaired: (800) 877-8339.]

SUPPLEMENTARY INFORMATION: Under the PRA, a Federal agency conducting or sponsoring a collection of information must display a currently valid Office of Management and Budget (OMB) control number. Collection of information is defined in 44 U.S.C. 3502(3) and 5 CFR 1320.3(c) and includes agency requirements that persons submit reports, keep records, or provide information to the agency, third parties, or the public. Under section 3506(c)(2)(A) of the PRA, Federal agencies are required to provide a 60-day notice and comment period through publication in the Federal Register concerning each proposed collection of information, including each proposed extension of an existing collection of information, before submitting the collection to OMB for approval.

Dated: May 11, 2005.
Vernon A. Williams,
Secretary.

[FR Doc. 05-9787 Filed 5-16-05; 8:45 am]

BILLING CODE 4915-01-P